NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by March 10, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: H. William Detrich, III, Department of Biology, 134 Mugar Hall, Northwestern University, Boston, MA 02115.

Permit Application No: 2010-023.

Activity for Which Permit Is Requested

Introduce non-indigenous species into Antarctica. The applicant plans to use Escherichia coli strain BL21DE3 for production of ³⁵S-labeled proteins to be used in protein folding assays performed in the Palmer Station laboratories. The applicant will continue analysis of a cold-functioning chaperonin protein folding system from testis tissue of the Antarctica fish, Gobionotothen gibberifrons. To demonstrate that the chaperonin is functional, they must use protein substrates labeled with ³⁵S-methionine. To obtain these proteins, they will express G. gibberifrons actin and tubulin substrates in E. coli in a medium supplemented with ³⁵S-methionine.

The E. coli will not be released to the environment. Cultures will be autoclaved to kill the bacteria, and the waste will be disposed via the radioactive materials waste stream using approved protocols.

Location

Palmer Station, Anvers Island, Antarctic Peninsula.

Dates: April 10, 2010 to June 8, 2010.

Nadene G. Kennedy,
Permit Officer, Office of Polar Programs.

[FR Doc. 2010-2653 Filed 2-5-10; 8:45 am]

BILLING CODE 7555-01-P